NATIONAL SCIENCE FOUNDATION

Advisory Committee for Education and Human Resources; Notice of Meeting

In accordance with the Federal Advisory Committee Act (Pub. L. 92-463, as amended), the National Science Foundation announces the following meeting:

Name: Advisory Committee for Education and Human Resources (ACEHR) (#1119).

Date/Time: April 4, 2001, 8:30 a.m.-6:30 p.m.; April 5, 2001, 8:30 a.m.-3 p.m.

Place: National Science Foundation, 4201 Wilson Blvd., Arlington, VA.

Type of Meeting: Open.

Contact Person: John B. Hunt, Senior Liaison, ACEHR, National Science Foundation, 4201 Wilson Boulevard, Room 805, Arlington, VA 22230, (703) 292-8602.

Summary Minutes: May be obtained from contact person listed above.

Purpose of Meeting: To provide advice and recommendations concerning NSF support for Education and Human Resources.

Agenda: Discussion of FY 2001 activities of the Directorate for Education and Human Resources and planning for future activities.

Dated: March 13, 2001.
Susanne Bolton,
Committee Management Officer.

[FR Doc. 01-6579 Filed 3-15-01; 8:45 am]

BILLING CODE 7555-01-M